DEPARTMENT OF LABOR

Occupational Safety and Health Administration

29 CFR Part 1910

[Docket No. OSHA-2014-0013; Docket No. OSHA-S048-2006-0674]

Vehicle-Mounted Elevating and Rotating Work Platforms and Logging Operations; Corrections

AGENCY: Occupational Safety and Health Administration (OSHA), Labor.

ACTION: Correcting amendments.

SUMMARY: OSHA is correcting typographical errors in its Vehicle-mounted elevating and rotating work platforms and Logging operations standards.

DATES: Effective July 1, 2014.

FOR FURTHER INFORMATION CONTACT: Press inquiries: Mr. Frank Meilinger, Director, Office of Communications, OSHA, U.S. Department of Labor, Room N-3647, 200 Constitution Avenue NW., Washington, DC 20210; telephone (202) 693-1999; email meilinger.francis2@dol.gov.

General and technical information: Mr. Robert Bell, Directorate of Standards and Guidance, Office of Engineering Safety, OSHA, Room N-3621, U.S. Department of Labor, 200 Constitution Avenue NW., Washington, DC 20210; telephone (202) 693-2053; email bell.rb@dol.gov.

SUPPLEMENTARY INFORMATION:

Background

This notice corrects two typographical errors, one each in OSHA's standards on Vehicle-mounted elevating and rotating work platforms at 29 CFR 1910.67 (39 FR 23502 (6/27/1974))(Docket No. OSHA-2014-0013),¹ and Logging operations at 29 CFR 1910.266 (59 FR 51672 (10/12/1994))(Docket No. OSHA-S048-2006-0674). OSHA believes the standards, as published, may mislead stakeholders; therefore, with this notice, OSHA is correcting these typographical errors.

¹ OSHA adopted 29 CFR 1910.67 pursuant to Section (6)(a) of the Occupational Safety and Health Act of 1970 (OSH Act) (29 U.S.C. 651, 655(a)), which allowed the Agency, during the first two years following the effective date of the OSH Act, to adopt as an occupational safety or health standard any national consensus standard or established Federal standard. In 1975, OSHA added new paragraph (c) to § 1910.67 (40 FR 13439 (3/26/1975)). In neither instance did OSHA have a docket number for the rulemaking. Therefore, for the purpose of publishing this notice, OSHA needed to establish a docket number for § 1910.67 (i.e., Docket No. OSHA-2014-0013).

The first typographical error this notice corrects is the title of a national consensus standards organization referenced in § 1910.67(c)(5). Section 1910.67(c)(5) states that all welding done on vehicle-mounted elevating and rotating work platforms must conform to Automotive Welding Society Standards incorporated by reference in 29 CFR 1910.6. However, as § 1910.6(i) specifies, the correct title of the organization is the American Welding Society Standards. Accordingly, in § 1910.67(c)(5) OSHA replaces “Automotive” with “American.”

The second typographical error this notice corrects is a reference in the Logging operations standard to another OSHA standard. Specifically, § 1910.266(d)(1)(iv), which establishes personal-protective-equipment requirements when logging employees operate chain saws, states that the requirement does not apply to employees who operate chain saws from a vehicle-mounted elevating and rotating work platform that meets the requirements of 29 CFR 1910.68. However, 29 CFR 1910.67, not § 1910.68 (Manlifts), addresses vehicle-mounted elevating and rotating work platforms. Therefore, in § 1910.266(d)(1)(iv), OSHA is inserting § 1910.67 in place of § 1910.68.

List of Subjects in 29 CFR Part 1910

Chain saws, Incorporation by reference, Logging, Occupational safety and health, Safety.

Accordingly, the Occupational Safety and Health Administration is correcting 29 CFR part 1910 by making the following correcting amendments:

PART 1910—OCCUPATIONAL SAFETY AND HEALTH STANDARDS

1. Revise the authority citation for subpart F to read as follows:

Authority: 29 U.S.C. 653, 655, 657; Secretary of Labor's Order No. 12-71 (36 FR 8754), 8-76 (41 FR 25059), 9-83 (48 FR 35736), 1-90 (55 FR 9033), 5-2007 (72 FR 31159), or 1-2012 (77 FR 3912), as applicable; and 29 CFR part 1911.

2. In § 1910.67, revise paragraph (c)(5) to read as follows:

§ 1910.67 Vehicle-mounted elevating and rotating work platforms.

* * * * *

(c) * * *

(5) “Welding standards.” All welding shall conform to the following American Welding Society (AWS) Standards which are incorporated by reference as specified in § 1910.6, as applicable:

* * * * *

Subpart R—[Amended]

3. Revise the authority citation for subpart R to read as follows:

Authority: 29 U.S.C. 653, 655, 657; Secretary of Labor's Order Nos. 12-71 (36 FR 8754), 8-76 (41 FR 25059), 9-83 (48 FR 35736), 1-90 (55 FR 9033), 6-96 (62 FR 111), 3-2000 (65 FR 50017), 5-2007 (72 FR 31160), 4-2010 (75 FR 55355), or 1-2012 (77 FR 3912), as applicable; and 29 CFR part 1911.

4. In § 1910.266, revise paragraph (d)(1)(iv) to read as follows:

§ 1910.266 Logging Operations.

* * * * *

(d) * * *

(1) * * *

(iv) The employer shall provide, at no cost to the employee, and assure that each employee who operates a chain saw wears leg protection constructed with cut-resistant material, such as ballistic nylon. The leg protection shall cover the full length of the thigh to the top of the boot on each leg to protect against contact with a moving chain saw. Exception: This requirement does not apply when an employee is working as a climber if the employer demonstrates that a greater hazard is posed by wearing leg protection in the particular situation, or when an employee is working from a vehicular mounted elevating and rotating work platform meeting the requirements of 29 CFR 1910.67.

* * * * *

Signed at Washington, DC, on: June 20, 2014.
David Michaels,
Assistant Secretary of Labor for Occupational Safety and Health.

[FR Doc. 2014-15166 Filed 6-30-14; 8:45 am]

BILLING CODE 4510-26-P